DEPARTMENT OF ENERGY

Federal Energy Regulatory Commission

Combined Notice of Filings #1

Take notice that the Commission received the following electric corporate filings:

Docket Numbers: EC18-155-000.

Applicants: Ameren Transmission Company of Illinois.

Description: Application for Authorization under Section 203 of the Federal Power Act, et al. of Ameren Transmission Company of Illinois.

Filed Date: 9/11/18.

Accession Number: 20180911-5211.

Comments Due: 5 p.m. ET 10/2/18.

Take notice that the Commission received the following exempt wholesale generator filings:

Docket Numbers: EG18-124-000.

Applicants: Birdsboro Power LLC.

Description: Self-Certification of EWG Status of Birdsboro Power LLC.

Filed Date: 9/12/18.

Accession Number: 20180912-5058.

Comments Due: 5 p.m. ET 10/3/18.

Take notice that the Commission received the following electric rate filings:

Docket Numbers: ER18-2303-001.

Applicants: Adams Wind Farm, LLC.

Description: Tariff Amendment: Amendment to MBR Tariff Filing of Adams Wind Farm, LLC to be effective 10/24/2018.

Filed Date: 9/12/18.

Accession Number: 20180912-5078.

Comments Due: 5 p.m. ET 10/3/18.

Docket Numbers: ER18-2305-001.

Applicants: Bobilli BSS, LLC.

Description: Tariff Amendment: Amendment to MBR Tariff Filing of Bobilli BSS, LLC to be effective 10/24/2018.

Filed Date: 9/12/18.

Accession Number: 20180912-5079.

Comments Due: 5 p.m. ET 10/3/18.

Docket Numbers: ER18-2306-001.

Applicants: Garwind, LLC.

Description: Tariff Amendment: Amendment to MBR Tariff Filing of Garwind, LLC to be effective 10/24/2018.

Filed Date: 9/12/18.

Accession Number: 20180912-5119.

Comments Due: 5 p.m. ET 10/3/18.

Docket Numbers: ER18-2308-001.

Applicants: K&K Wind Enterprises, LLC.

Description: Tariff Amendment: Amendment to MBR Tariff Filing of K&K Wind Enterprises, LLC to be effective 10/24/2018.

Filed Date: 9/12/18.

Accession Number: 20180912-5120.

Comments Due: 5 p.m. ET 10/3/18.

Docket Numbers: ER18-2309-001.

Applicants: Rose Creek Wind, LLC.

Description: Tariff Amendment: Amendment to MBR Tariff Filing of Rose Creek Wind, LLC to be effective 10/24/2018.

Filed Date: 9/12/18.

Accession Number: 20180912-5129.

Comments Due: 5 p.m. ET 10/3/18.

Docket Numbers: ER18-2310-001.

Applicants: Rose Wind Holdings, LLC.

Description: Tariff Amendment: Amendment to MBR Tariff Filing of Rose Wind Holdings, LLC to be effective 10/24/2018.

Filed Date: 9/12/18.

Accession Number: 20180912-5132.

Comments Due: 5 p.m. ET 10/3/18.

Docket Numbers: ER18-2413-000.

Applicants: MidAmerican Central California Transco, LLC.

Description: § 205(d) Rate Filing: Amendment to TO Tariff to be effective 9/30/2018.

Filed Date: 9/11/18.

Accession Number: 20180911-5186.

Comments Due: 5 p.m. ET 10/2/18.

Docket Numbers: ER18-2414-000.

Applicants: PacifiCorp.

Description: § 205(d) Rate Filing: BPA NITSA (UIUC) Rev 9 to be effective 8/15/2018.

Filed Date: 9/12/18.

Accession Number: 20180912-5115.

Comments Due: 5 p.m. ET 10/3/18.

Take notice that the Commission received the following electric securities filings:

Docket Numbers: ES18-56-000.

Applicants: GridLiance High Plains LLC.

Description: Supplement to August 16, 2018 Application for Authorization under Section 204 of the Federal Power Act of GridLiance High Plains LLC.

Filed Date: 9/7/18.

Accession Number: 20180907-5162.

Comments Due: 5 p.m. ET 9/17/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 12, 2018.
Nathaniel J. Davis, Sr.,
Deputy Secretary.

[FR Doc. 2018-20197 Filed 9-17-18; 8:45 am]

BILLING CODE 6717-01-P